DEPARTMENT OF AGRICULTURE

Forest Service

Notice of Proposed New Fee Sites

AGENCY: Forest Service, Agriculture (USDA).

ACTION: Notice of proposed new fee sites.

SUMMARY: The Mt. Baker-Snoqualmie National Forest is proposing to charge new fees at multiple recreation sites listed in SUPPLEMENTARY INFORMATION of this notice. Funds from fees would be used for operation, maintenance, and improvements of these recreation sites. Many sites have recently been reconstructed or amenities are being added to improve services and experiences. An analysis of nearby developed recreation sites with similar amenities shows the proposed fees are reasonable and typical of similar sites in the area.

DATES: If approved, the new fee would be implemented no earlier than six months following the publication of this notice in the Federal Register.

ADDRESSES: Mt. Baker-Snoqualmie National Forest, 2930 Wetmore Avenue, Suite 3A, Everett, Washington 98201.

FOR FURTHER INFORMATION CONTACT: Amy Linn, Recreation Program Manager, 503-307-7002 or amy.linn@usda.gov.

SUPPLEMENTARY INFORMATION: The Federal Lands Recreation Enhancement Act (Title VII, Pub. L. 108-447) directed the Secretary of Agriculture to publish a six-month advance notice in the Federal Register whenever new recreation fee areas are established. The fees are only proposed at this time and will be determined upon further analysis and public comment. Reasonable fees, paid by users of these sites, will help ensure that the Forest can continue maintaining and improving recreation sites like this for future generations.

As part of this proposal, the Evans Creek, Lower Sandy, and Ranger Creek Campgrounds are proposed at $20 per night. The Evans Creek and Ranger Creek group campgrounds are proposed at $75 per night with group sizes of 40 and 70 people respectively. A $5 day-use fee per vehicle is proposed at Beaver Lake, Cable Drop, Camp Brown, Deception Falls, Dingford Creek, Frog Mountain, Garfield Ledges, Government Meadows Horse Camp, Jennifer Dunn, Lonesome Lake, Pratt Bar, Sauk Mountain, and White Chuck Overlook Day use areas. Lower Sauk, Marblemount, Old Sauk Universal Access, and White Chuck boat launches would be added to improve services and facilities. The Northwest Forest Pass and the full suite of Interagency passes would be honored.

New fees would provide increased visitor opportunities, as well as increased staffing to address operations and maintenance needs that are intended to enhance customer service. Once public involvement is complete, these new fees will be reviewed by a Recreation Resource Advisory Committee prior to a final decision and implementation.

Advanced reservations for campgrounds and group sites will be available through www.recreation.gov or by calling 1-877-444-6777. The reservation service charges an $8.00 fee for reservations.

Dated: August 30, 2022.
Sandra Watts,
Acting Associate Deputy Chief, National Forest System.

[FR Doc. 2022-19186 Filed 9-2-22; 8:45 am]

BILLING CODE 3411-15-P